NATIONAL SCIENCE FOUNDATION

Special Emphasis Panel in Design, Manufacture, and Industrial Innovation; Notice of Meeting

In accordance with the Federal Advisory Committee Act (Pub. L. 92-463, as amended), the National Science Foundation announces the following meeting:

Name: Special Emphasis Panel in Design, Manufacture, and Industrial Innovation—(1194).

Date and Time: April 17, 25, and 26 2001; 8 a.m.-5:30 p.m.

Place: Room 330 National Science Foundation, 4201 Wilson Boulevard, Arlington, VA 22230 and Rooms II-595 and II-545 National Science Foundation Conference Floor, Stafford II Bldg, 4121 Wilson Boulevard, Arlington, VA 22230.

Type of Meeting: Closed.

Contact Person: Dr. Ronald Rardin, Program Director, DMII, (703) 292-8330, National Science Foundation, 4201 Wilson Boulevard, Arlington VA 22230.

Purpose of Meeting: To provide advice and recommendations concerning proposals submitted to NSF for financial support.

Agenda: To review and evaluate Unsolicited proposals as part of the selection process for awards.

Reason for Closing: The proposals being reviewed include information of proprietary or confidential nature, including technical information, financial data such as salaries, and personal information concerning individuals associated with the proposals. These matters that are exempt under 5 U.S.C. 522b(c), (4) and (6) of the Government in the Sunshine Act.

Dated: February 5, 2001.
Karen J. York,
Committee Management Officer.

[FR Doc. 01-3336 Filed 2-08-01; 8:45am]

BILLING CODE 7555-01-M